DEPARTMENT OF COMMERCE

International Trade Administration

[A-570-853]

Notice of Amended Final Results of Antidumping Duty Administrative Review: Bulk Aspirin from the People's Republic of China

AGENCY: Import Administration, International Trade Administration, Department of Commerce.

ACTION: Notice of Amended Final Results of Antidumping Duty Administrative Review.

EFFECTIVE DATE: September 19, 2003.

FOR FURTHER INFORMATION CONTACT: Julie Santoboni or Blanche Ziv, Office 1, AD/CVD Enforcement, Import Administration, International Trade Administration, U.S. Department of Commerce, 14th Street and Constitution Avenue, NW, Washington DC 20230; telephone (202) 482-4194 or (202) 482-4207, respectively.

SUPPLEMENTARY INFORMATION:

Scope of Review

The product covered by this review is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia (“USP”) 23. It is classified under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of bulk aspirin and active substances as published in the Handbook of Nonprescription Drugs, eighth edition, American Pharmaceutical Association. This product is classified under HTSUS subheading 3003.90.0000. Although the HTSUS subheadings are provided for convenience and customs purposes, the written description of the merchandise under investigation is dispositive.

Amended Final Results

On August 7, 2003, the Department of Commerce (“the Department”) determined that bulk aspirin from the People's Republic of China (“PRC”) is not being sold in the United States at less than fair value, as provided in section 751(a) of the Tariff Act of 1930, as amended (“the Act”). See Bulk Aspirin from the People's Republic of China; Final Results of Antidumping Duty Administrative Review, 68 FR 48337 (August 13, 2003) (“Final Results”). On August 18, 2003, Rhodia, Inc. (“petitioner”), timely filed ministerial error allegations pursuant to 19 CFR 351.224(c)(2).¹ The respondents in this review, Jilin Henghe Pharmaceutical Company Ltd. (“Jilin”) and Shandong Xinhua Pharmaceutical Co., Ltd. (“Shandong”) did not file ministerial error allegations or comment on the petitioner's allegations.

¹ On September 10, 2003, the Department received the ministerial error allegation with amended bracketing of business proprietary information from Rhodia.

The petitioner contends that the Department failed to apply the calculated credit rate to Shandong's U.S. sales and incorrectly calculated the credit period. In the calculation of the surrogate value for acetic acid for Jilin and Shandong, the petitioner contends that the Department incorrectly deducted taxes from the already tax-exclusive domestic price of acetic acid sold on the Mumbai Market.

In accordance with section 735(e) of the Act, we have determined that ministerial errors were made in our final results margin calculations. Specifically we find that the incorrect calculation of Shandong's credit expense and that the incorrect calculation of the domestic price of acetic acid constitute clerical errors. For a detailed discussion of all of the ministerial error allegations and the Department's analysis, see Memorandum to Susan Kuhbach, “Antidumping Duty Administrative Review of Bulk Aspirin from the People's Republic of China; Allegations of Ministerial Errors” dated September 12, 2003 which is on file in the Central Records Unit, room B-099 of the main Department building.

In accordance with 19 C.F.R. 351.224(e), we are amending the final results of the antidumping duty administrative review of bulk aspirin from the PRC to correct these ministerial errors. However, the amended weighted-average margins are identical to the weighted-average margins in the final results (see Final Results). The weighted-average dumping margins for Jilin and Shandong are listed below:

Producer//Manfacturer/Exporter | Original Weighted-average margin percentage | Amended Results Weighted-average margin percentage
Jilin Henghe Pharmaceutical Company Ltd. | 0.00 | 0.00
Shandong Xinhua Pharmaceutical Co., Ltd. | 0.00 | 0.00

Cash Deposit Rates

The following deposit rates will be effective upon publication of these final results for all shipments of bulk aspirin from the PRC entered, or withdrawn from warehouse, for consumption on or after the publication date of this notice, as provided for by section 751(a)(1) of the Act: (1) for Shandong and Jilin, which have separate rates, no antidumping duty deposit will be required; (2) for a company previously found to be entitled to a separate rate and for which no review was requested, the cash deposit rate will be the rate established in the most recent review of that company; (3) for all other PRC exporters the cash deposit rate will be 144.02 percent, the PRC-wide rate established in the less than fair value investigation; and (4) for non-PRC exporters of subject merchandise from the PRC, the cash deposit rate will be the rate applicable to the PRC supplier of that exporter. These deposit rates shall remain in effect until publication of the final results of the next administrative review.

These cash deposit requirements, when imposed, shall remain in effect until publication of the final results of the next administrative review.

Assessment Rates

The Department will issue appropriate assessment instructions directly to the Bureau of Customs and Border Protection within 15 days of publication of these amended final results of review.

We are issuing and publishing this determination and notice in accordance with sections 751(a)(1) and 771(i)(1) of the Act.

Dated: September 12, 2003.
Joseph A. Spetrini,
Acting Assistant Secretary for Import Administration.

[FR Doc. 03-23962 Filed 9-18-03; 8:45 am]

BILLING CODE 3510-DS-S